DEPARTMENT OF ENERGY

Federal Energy Regulatory Commission

[Project No. 2170-029—Alaska]

Chugach Electric Association; Notice of Availability of Environmental Assessment

November 17, 2006.

In accordance with the National Environmental Policy Act of 1969, as amended, and the Federal Energy Regulatory Commission's (Commission or FERC) regulations (18 CFR Part 380), Commission staff has reviewed the application for license for the Cooper Lake Hydroelectric Project (FERC No. 2170-029) and has prepared an environmental assessment (EA). The project is located on Cooper Lake, Cooper Creek and Kenai Lake on the Kenai Peninsula, Alaska. The EA contains the staff's analysis of the potential environmental effects of the project and concludes that licensing the project, with appropriate environmental protective measures, would not constitute a major federal action that would significantly affect the quality of the human environment.

A copy of the EA is on file with the Commission and is available for pubic inspection. The EA may also be viewed on the Commission's Web site at http:/www.ferc.gov using the “eLibrary” link. Enter the docket number excluding the last three digits in the docket number field to access documents. For assistance, contact FERC Online Support at FERCOnline Support@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix “Saranac River Project No. 2738” to all comments. Comments may be filed electronically via Internet in lieu of paper. The Commission strongly encourages electronic filings. See 18 CFR 385.2001(a)(1)(iii) and the instructions on the Commission's Web site under the “eFiling” link. For further information, contact David Turner at (202) 502-6091.

Magalie R. Salas,
Secretary.

[FR Doc. E6-19948 Filed 11-24-06; 8:45 am]

BILLING CODE 6717-01-P